DEPARTMENT OF AGRICULTURE

Forest Service

Information Collection; Application for Permit, Non-Federal Commercial Use of Roads Restricted by Order

AGENCY: Forest Service, USDA.

ACTION: Notice; request for comment.

SUMMARY: In accordance with the Paperwork Reduction Act of 1995, the Forest Service is seeking comments from all interested individuals and organizations on the renewal, without change, of a previously approved information collection, Application for Permit, Non-Federal Commercial Use of Roads Restricted by Order FS-7700-40.

DATES: Comments must be received in writing on or before July 28, 2003 to be assured of consideration. Comments received after that date will be considered to the extent practicable.

ADDRESSES: Comments concerning this notice should be addressed to Director, Engineering Staff, RPC 5, USDA Forest Service, 1400 Independence Avenue, SW., Mail Stop 1101, Washington, DC 20250-1101.

Comments also may be submitted via facsimile to (703) 605-1542 or by e-mail to: jbell01@fs.fed.us.

The public may inspect comments received at Office of the Director of Engineering USDA Forest Service, 1605 Kent St., Room 500, Arlington, VA 22209 during normal business hours. Visitors are encouraged to call ahead to (703) 605-4646 to facilitate entry to the building.

FOR FURTHER INFORMATION CONTACT: John Bell, Engineering Staff, at (703) 605-4612. Individuals who use telecommunication devices for the deaf (TDD) may call the Federal Relay Service (FRS) at 1-800-877-8339 twenty-four hours a day, every day of the year, including holidays.

SUPPLEMENTARY INFORMATION: Title: Application for Permit, Non-Federal Commercial use of Roads Restricted by Order; FS-7700-40.

OMB Number: 0596-0016.

Expiration Date of Approval: 07/31/03.

Type of Request: Extension.

Abstract: Authority for Road Use Permits is derived from the National Forest Roads and Trails Act (16 U.S.C. 532-538, as amended). Detailed implementing regulations are contained in Title 36 of the Code of Federal Regulations, sections 212.5, 212.9, and 261.54. Forest Service policies implementing the regulations are found in Forest Service Manual section 7732. These statutes, regulations, and policies authorize the Forest Service to require commercial users of National Forest System roads to perform road maintenance or pay for road maintenance made necessary by their commercial vehicular use. They also allow the Forest Service to recover, the Federal investment in the development and maintenance of National Forest System roads from commercial users. Maintenance and cost recovery are accomplished by issuing a road use permit. Commercial use of National Forest System roads is prohibited without a road use permit under the authority of 36 CFR 261.54.

The following information will be requested from individuals, corporations, or organizations that apply for a permit to use National Forest system roads for non-Federal commercial use: (1) Name, address, and telephone number; (2) identification by Forest Service route number of roads to be used; (3) purpose of use; (4) use schedule; (5) and plans for future use.

The requestor submits the information to the Forest Supervisor or District Ranger responsible for the National Forest System roads on which commercial vehicular use is requested. Engineering personnel on the staff of the responsible National Forest System unit evaluate the information.

The information is used by the Forest Service to identify road maintenance required as a direct result of the applicant's vehicular traffic and to calculate the applicant's commensurate share of road maintenance. The information will also be used to calculate collections for recovery of past Federal investments in roads. These fees are then embodied in clauses in the road use permit issued to the applicant.

Estimate of Annual Burden: 15 minutes.

Type of Respondent: Commercial users of National Forest System roads.

Estimated Annual Number of Respondents: 2000.

Estimated Annual Number of Responses per Respondent: 1.

Estimated Total Annual Burden on Respondents: 500 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission request toward Office of Management and Budget approval.

Dated: May 16, 2003.
Abigail R. Kimbell,
Associate Deputy Chief, National Forest System.

[FR Doc. 03-13056 Filed 5-23-03; 8:45 am]

BILLING CODE 3410-11-P